DEPARTMENT OF HEALTH AND HUMAN SERVICES

Administration for Community Living

Agency Information Collection Activities: Proposed Collection; Public Comment Request; of the ACL Generic Clearance for the Collection of Routine Customer Feedback OMB 0985-NEW

AGENCY: Administration for Community Living, Department of Health and Human Services.

ACTION: Notice.

SUMMARY: The Administration for Community Living (ACL) is announcing an opportunity for the public to comment on the proposed collection of information listed above. Under the Paperwork Reduction Act of 1995 (PRA), Federal agencies are required to publish a notice in the Federal Register concerning each proposed collection of information, including each proposed extension of an existing collection of information, and to allow 60 days for public comment in response to the notice. This Information Collection (IC) solicits comments on the IC requirements relating to the ACL Generic Clearance for the Collection of Routine Customer Feedback, a generic mechanism for Collecting Service Delivery Feedback under the Paperwork Reduction Act.

DATES: Comments on the collection of information must be submitted electronically by 11:59 p.m. (EST) or postmarked by January 16, 2024.

ADDRESSES: Submit electronic comments on the collection of information to: ACL's Center for Management and Budget Tomakie.Washington@acl.hhs.gov. Submit written comments on the collection of information to Administration for Community Living, 330 C Street SW, Washington, DC, 20201, Attention: Center for Management and Budget PRA Comments.

FOR FURTHER INFORMATION CONTACT: Tomakie Washington at 202-795-7336 or Tomakie.Washington@acl.hhs.gov.

SUPPLEMENTARY INFORMATION: Under the PRA, Federal agencies must obtain approval from the Office of Management and Budget (OMB) for each collection of information they conduct or sponsor. “Collection of information” is defined as and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including using automated collection techniques when appropriate, and other forms of information technology.

The Administration for Community Living (ACL) at the Department of Health and Human Services (HHS) is requesting a generic clearance for purposes collecting data with a focus on the awareness, understanding, attitudes, preferences, or experiences of customers or other stakeholders relating to existing or future services, products, or communication materials. ACL defines routine customer feedback as information that provides useful insights to improve existing or future service deliveries, products, or communication materials. ACL is requesting approval for customer surveys with the purpose of the collecting data to assist the agency in improving existing or future service deliveries, products, or communication materials; responses are voluntary: the collection does not impose a significant burden on respondents; the collection does not employ statistical methods to have practical utility; and the data results are not publicly shared.

The types of information collection activities will include:

1. Customer Comment Card/Complaint Form

2. Customer Satisfaction Qualitative Surveys

3. Technical Assistance

4. Usability Testing (e.g., website or Software)

5. Small Discussion Group

6. Focus Group

7. One-time or panel discussion groups

8. Moderated, un-moderated, in-person, and/or remote-usability studies

9. Testing of a survey or other collection to refine questions

10. Post-transaction customer surveys

11. On-line surveys

ACL was created around the fundamental principle that older adults and people of all ages with disabilities should be able to live where they choose, with the people they choose, and with the ability to participate fully in their communities. By funding services and supports provided primarily by networks of community-based organizations, and with investments in research, education, and innovation, ACL helps make this principle a reality for millions of Americans. Integral to this role, ACL will use this mechanism to conduct routine customer feedback for ACL programs. The proposed data collection template may be found on the ACL website for review at: https://www.acl.gov/about-acl/public-input.

Estimated Program Burden: ACL estimates the burden of this collection of information as follows:

The annual burden hours (2,521) requested, and the anticipated number of respondents (10,086) are based on the number of potential customer feedback respondents. Over the course of a three-year clearance for this generic information collection, ACL estimates a three-year burden drawdown amount of 7,564.5 burden hours and 30,258 respondents.

Estimated Annualized Burden Table
Type of respondent | Form | Annual number of respondents | Number of responses per respondent | Burden hours per response | Total annual burden hours
ACL Potential Customer or Stakeholder | ACL Generic Clearance for the Collection of Routine Customer Feedback | 10,086 | 1 | .25 | 2, 521

Dated: November 8, 2023.
Alison Barkoff,
Principal Deputy Administrator for the Administration for Community Living, performing the duties of the Administrator and the Assistant Secretary for Aging.

[FR Doc. 2023-25129 Filed 11-14-23; 8:45 am]

BILLING CODE 4154-01-P